DEPARTMENT OF COMMERCE

National Oceanic and Atmospheric Administration

RIN 0648-XF315

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC) Atlantic Surfclam and Ocean Quahog Advisory Panel (AP) will hold a public meeting.

DATES: The meeting will be held on Tuesday, April 18, 2017, from 10 a.m. to 4 p.m. For agenda details, see SUPPLEMENTARY INFORMATION.

ADDRESSES: The meeting will be held at the Embassy Suites by Hilton Philadelphia Airport, 9000 Bartram Avenue, Philadelphia, PA 19153; telephone: (215) 365-4500.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The Atlantic Surfclam and Ocean Quahog Advisory Panel (AP) will meet to create a fishery performance report that provides structured input to the Scientific and Statistical Committee (SSC) and MAFMC, for consideration at their May and June 2017 meetings, respectively.

Special Accommodations

The meeting is physically accessible to people with disabilities. Requests for sign language interpretation or other auxiliary aid should be directed to M. Jan Saunders, (302) 526-5251, at least 5 days prior to the meeting date.

Dated: March 22, 2017.
Jeffrey N. Lonergan,
Acting Deputy Director, Office of Sustainable Fisheries, National Marine Fisheries Service.

[FR Doc. 2017-06006 Filed 3-24-17; 8:45 am]

BILLING CODE 3510-22-P